DEPARTMENT OF DEFENSE

Office of the Secretary

[Docket ID: DoD-2020-OS-0032]

Privacy Act of 1974; System of Records

AGENCY: Defense Finance and Accounting Service (DFAS), Department of Defense (DoD).

ACTION: Notice of a new System of Records.

SUMMARY: The DFAS proposes to add a System of Records entitled, “Centralized Disbursing System,” T7320b. DFAS uses the Centralized Disbursing System (CDS) to process fund disbursements and collections for the Air Force, DFAS Field Sites, Navy Military Sealift Command and the National Geospatial-Intelligence Agency. The system also supports the DFAS centralized environment for disbursing.

DATES: This new System of Records is effective upon publication; however, comments on the Routine Uses will be accepted on or before April 17, 2020. The Routine Uses are effective at the close of the comment period.

ADDRESSES: You may submit comments, identified by docket number and title, by any of the following methods:

* Federal Rulemaking Portal: https://www.regulations.gov. Follow the instructions for submitting comments.

* Mail: Department of Defense, Office of the Chief Management Officer, Directorate for Oversight and Compliance, 4800 Mark Center Drive, Mailbox #24, Suite 08D09, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Mr. Gregory L. Outlaw, DFAS, Freedom of Information/Privacy Act Program Manager, Corporate Communications, DFAS-ZCF/IN, 8899 East 56th Street, Indianapolis, IN 46249-0150 or by telephone at (317) 212-4591.

SUPPLEMENTARY INFORMATION: The CDS was originally designed as a module of the Automated Disbursing System. However, further determination designated this as a separate system. The CDS system handles the disbursement and collection of all funds for these sites except payroll funds. Without the CDS, the impact to agency and military field sites will be untimely processing of payments, and for the interfaces with existing DoD information systems, the inability to balance financial statements and records. The CDS system handles the disbursement and collection of all funds for these agency and military field sites except payroll funds.

The DoD notices for Systems of Records subject to the Privacy Act of 1974 (5 U.S.C. 552a), as amended, have been published in the Federal Register and are available from the address in FOR FURTHER INFORMATION CONTACT or at the Defense Privacy, Civil Liberties and Transparency Division website at https://dpcld.defense.gov.

The proposed system reports, as required by the Privacy Act, as amended, were submitted on January 14, 2020, to the House Committee on Oversight and Reform, the Senate Committee on Homeland Security and Governmental Affairs, and the Office of Management and Budget (OMB) pursuant to Section 6 of OMB Circular No. A-108, “Federal Agency Responsibilities for Review, Reporting, and Publication under the Privacy Act,” revised December 23, 2016 (December 23, 2016, 81 FR 94424).

Dated: March 13, 2020.
Aaron T. Siegel,
Alternate OSD Federal Register Liaison Officer, Department of Defense.

SYSTEM NAME AND NUMBER:

Centralized Disbursing System, T7320b.

SECURITY CLASSIFICATION:

Unclassified.

SYSTEM LOCATION:

Defense Finance and Accounting Service, Disbursing Operations, 8899 East 56th Street, Indianapolis, IN 46249-3300. DISA DECC Ogden, Ogden, UT.

SYSTEM MANAGER(S):

System Manager, 1240 East 9th Street, Cleveland, OH 44199. Telephone: 216-204-2447.

AUTHORITY FOR MAINTENANCE OF THE SYSTEM:

Department of Defense Financial Management Regulation (DoDFMR) 7000.14-R, Vol. 4: 31 U.S.C. Sections 3511 and 3513; and E.O. 9397 (SSN) as amended.

PURPOSE(S) OF THE SYSTEM:

The CDS performs general activities common for disbursing, collecting, payment processing, electronic funds transfer, check issue, printing for legal retention of records and accountability reporting processes. The CDS contains a file control module, which automates manual interfaces with a number of entitlement systems, electronically uploads or rejects data from a single source on a daily basis, and automates the control of daily incoming files. The file control module guarantees data upload into the CDS, ensuring complete and valid voucher data, and returns advice of status to users.

CATEGORIES OF INDIVIDUALS COVERED BY THE SYSTEM:

Active Duty and Retired Military Personnel, Air Force National Guard Personnel, DoD Civilian Employees and Federal Contractors.

CATEGORIES OF RECORDS IN THE SYSTEM:

Individual name, Social Security Numbers (SSN), Mailing/Home Address and Financial Information.

RECORD SOURCE CATEGORIES:

Automated Disbursing System, Departmental Cash Management System, Department of Defense Debt Management System, Defense Enterprise Accounting and Management System, Junior Reserve Officers Training Corps Payroll Maintenance and Certification Division, General Accounting and Finance System, Defense Travel System, General Accounting and Finance System, DFAS Transactional Interface Module, Integrated Accounts Payable System, Military Sealift Command Financial Management System, Reserve Travel System, Standard Material Accounting System, Transportation Financial Management System, Defense Corporate Database/Defense Corporate Warehouse.

ROUTINE USES OF RECORDS MAINTAINED IN THE SYSTEM, INCLUDING CATEGORIES OF USERS AND PURPOSES OF SUCH USES:

In addition to those disclosures generally permitted under 5 U.S.C. 552a(b) of the Privacy Act, these records or information contained therein may specifically be disclosed outside the DoD as a routine use pursuant to 5 U.S.C. 552a(b)(3) as follows:

a. To contractors, grantees, experts, consultants, students, and others performing or working on a contract, service, grant, cooperative agreement, or other assignment for the federal government when necessary to accomplish an agency function related to this System of Records.

b. To the appropriate Federal, State, local, territorial, tribal, foreign, or international law enforcement authority or other appropriate entity where a record, either alone or in conjunction with other information, indicates a violation or potential violation of law, whether criminal, civil, or regulatory in nature.

c. To any component of the Department of Justice for the purpose of representing the DoD, or its components, officers, employees, or members in pending or potential litigation to which the record is pertinent.

d. In an appropriate proceeding before a court, grand jury, or administrative or adjudicative body or official, when the DoD or other Agency representing the DoD determines that the records are relevant and necessary to the proceeding; or in an appropriate proceeding before an administrative or adjudicative body when the adjudicator determines the records to be relevant to the proceeding.

e. To the National Archives and Records Administration for the purpose of records management inspections conducted under the authority of 44 U.S.C. 2904 and 2906.

f. To a member of Congress or staff acting upon the Member's behalf when the Member or staff requests the information on behalf of, and at the request of, the individual who is the subject of the record.

g. To appropriate agencies, entities, and persons when (1) the DoD suspects or confirms the security or confidentiality of the information in the System of Records; (2) the DoD determined as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

h. To another Federal agency or Federal entity, when the DoD determines that information from this System of Records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Records are maintained in paper and electronic storage media, in accordance with the safeguards mentioned below.

POLICIES AND PRACTICES FOR RETRIEVAL OF RECORDS:

The records are retrieved primarily by Individual Name, SSN, Mailing/Home Address, and Financial Information.

POLICIES AND PRACTICES FOR RETENTION AND DISPOSAL OF RECORDS:

System records will be destroyed when 10 years old. After the retention period, records will be destroyed by degaussing, burning, or shredding.

ADMINISTRATIVE, TECHNICAL, AND PHYSICAL SAFEGUARDS:

Records are maintained in secure, limited access, and monitored areas. The database is monitored, its access is password protected, and it is Common Access Card (CAC) enabled. Firewalls, Virtual Private Network (VPN) and role based access controls are used. Physical entry by unauthorized persons is restricted through the use of cipher locks, key cards, security guards, closed circuit tv, and identification badges. Archived data is stored on compact discs, or magnetic tapes, which are kept in a locked and controlled access area. Access to personal information is limited to those individuals who require a need to know to perform their official assigned duties.

RECORD ACCESS PROCEDURES:

Individuals seeking access to information about themselves in this System of Records should address written inquiries to: Freedom of Information Act/Privacy Act Program Manager, Defense Finance and Accounting Service, 8899 E. 56th Street, Indianapolis, IN 46249-0150. Hours of operation: Monday through Friday, 7:30 a.m. to 4:00 p.m., Eastern Time (ET). FAX: (317) 212-8802. Signed, written requests should include the individual's full name, telephone number, street address, email address, and name and number of this System of Records Notice (SORN). In addition, the requester must provide either a notarized statement or a declaration made in accordance with 28 U.S.C. 1746, using the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial agency determinations are contained in 32 CFR part 310, or may be obtained from the system manager.

NOTIFICATION PROCEDURES:

Individuals seeking to determine whether information about themselves is contained in this System of Records should address requests to the Freedom of Information/Privacy Act Program Manager, Defense Finance and Accounting Service, Corporate Communications Office, 8899 East 56th Street, Indianapolis, IN 46249-0150. Signed, written requests should contain the individual's full name, telephone number, street address, email address, and name and number of this SORN. In addition, the requester must provide either a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

None.

HISTORY:

N/A.

[FR Doc. 2020-05665 Filed 3-17-20; 8:45 am]

BILLING CODE 5001-06-P